DEPARTMENT OF DEFENSE

Department of the Army, Corps of Engineers

Intent To Prepare a Draft Environmental Impact Statement for the Proposed Arboretum Project, in Rancho Cordova, Sacramento County, CA, Permit Application Number SPK-2007-00133

AGENCY: Department of the Army, U.S. Army Corps of Engineers, DOD.

ACTION: Notice of intent.

SUMMARY: The U.S. Army Corps of Engineers, Sacramento District, (Corps) will prepare an Environmental Impact Statement (EIS) for The Arboretum project, a mixed-use residential and commercial development in Rancho Cordova, Sacramento County, CA. Lewis Operating Corp. has applied for a Department of the Army permit to fill approximately 31.78 acres of waters of the United States, including wetlands, to construct the project.

ADDRESSES: Please send written comments to Angela De Paoli Conn, U.S. Army Corps of Engineers, Sacramento District, 1325 J Street, Room 1480, Sacramento, CA 95814-2922.

FOR FURTHER INFORMATION CONTACT: Questions about the proposed action and EIS should be addressed to Angela De Paoli Conn, (916) 557-6782, e-mail: angela.l.conn@usace.army.mil.

SUPPLEMENTARY INFORMATION: Lewis Operating Corp. has applied for a Department of the Army permit under Section 404 of the Clean Water Act to construct a mixed-use development on a 1,349-acre parcel situated in the eastern portion of the City of Rancho Cordova in eastern Sacramento County, CA. The proposed action includes approximately 5,000 new residential units; nearly 80 acres of public and private use parks and related facilities; two 10-acre elementary school sites; one 75-acre joint use middle/high school site; and 465,000 square feet of targeted commercial development. The total development area would encompass approximately 900 acres of the project site. The remaining 449 acres, or nearly 33 percent, of the project site would be devoted to passive and multiple use open space, including the preservation and enhancement of the Laguna Creek stream corridor and its associated jurisdictional features.

Approximately 117.03 acres of water of the United States have been identified on the proposed project site, including 22.18 acres of vernal pools, 6.79 acres of seasonal wetlands, 58.44 acres of lake, 9.96 acres of ponds, 8.99 acres of channels, 9.48 acres wet swales, 0.34 acre of drainage ditches, and 0.91 acre irrigation ditches. The applicant has applied for a permit to fill 31.78 acres of these waters. Wetlands proposed to be preserved and not directly impacted by the project are within the 449 acres of open space and wetland preserve and would contain approximately 85.25 acres of wetlands, approximately 73 percent of wetlands on site.

The EIS will include an evaluation of a reasonable range of alternatives. Currently, the following alternatives are expected to be analyzed in detail: (1) The no action alternative (no permit issued), (2) the applicant's preferred project (proposed action), and (3) a different location (off-site) alternative. The no action alternative assumes limited development would occur on the site with all waters of the United States avoided. The off-site alternative assumes the proposed project would be developed at a different but suitably sized site in the region. Currently the Corps is in the process of developing an analysis of alternatives sufficient to demonstrate compliance with Section 404(b)(1) of the Clean Water Act, therefore additional alternatives are likely to be analyzed.

The Corps' scoping process for the EIS includes a public involvement program with several opportunities to provide oral and written comments. In addition to public meetings and notifications in the Federal Register, the Corps will issue public notices when the draft and final EISs are available. Affected federal, state, and local agencies, Native American tribes, and other interested private organizations and parties are invited to participate.

Potentially significant issues to be analyzed in the EIS include, but are not limited to: Hydrology, water supply, water quality, cultural resources, biological resources, traffic and transportation, and air quality. The Corps is the lead agency for preparation of the EIS under the requirements of the National Environmental Policy Act (NEPA). Currently no other agencies have agreed to be cooperating agencies. The Corps will coordinate with other agencies, such as the City of Rancho Cordova.

Other environmental review and consultation requirements for the proposed action include the need for the applicant to obtain water quality certification under Section 401 of the Clean Water Act from the California Central Valley Regional Water Quality Control Board. In addition, because the proposed project may affect federally listed species, the Corps will formally consult with the U.S. Fish and Wildlife Service in accordance with Section 7 of the federal Endangered Species Act. The Corps will also be consulting with the State Historic Preservation Officer under Section 106 of the National Historic Preservation Act concerning properties listed, or potentially eligible for listing, on the National Register of Historic Places.

A public scoping meeting for the EIS will be held on January 29, 2009, from 4 p.m. to 7 p.m. The meeting will be held at the Rancho Cordova City Hall, 2729 Prospect Park Drive, American River Room—South, Rancho Cordova, CA 95670. Interested parties can provide oral and written comments at the meetings. Interested parties may also submit written comments on this notice. Scoping comments should be submitted before March 15, 2009 but may be submitted at any time prior to publication of the Draft EIS.

Interested parties may register for the Corps' public notice e-mail notification lists at: http://www.spk.usace.army.mil/organizations/cespk-co/regulatory/pnlist.html.

Dated: December 5, 2008.
Thomas C. Chapman,
Colonel, U.S. Army, District Engineer.

[FR Doc. E8-29730 Filed 12-15-08; 8:45 am]

BILLING CODE 3720-58-P